Title 3—

The President

Proclamation 9563 of January 12, 2017

Boundary Enlargement of the California Coastal National Monument

By The President of the United States of America

A Proclamation

Through Proclamation 7264 of January 11, 2000, President Clinton established the California Coastal National Monument (monument) to protect the biological treasures situated on thousands of unappropriated or unreserved islands, rocks, exposed reefs, and pinnacles owned or controlled by the Government of the United States within 12 nautical miles of the shoreline of the State of California. Presidential Proclamation 9089, issued on March 11, 2014, expanded the monument to include the Point Arena-Stornetta Public Lands, a landscape of coastal bluffs and shelves, tide pools, onshore dunes, coastal prairies, and riverbanks, and the mouth and estuary of the Garcia River. In addition to providing vital habitat for wildlife, these coastal lands were critical for the native peoples who first lived along the California Coast, and they continue to be treasured by modern generations.

Six other spectacular areas along the California Coast contain significant scientific or historic resources that are closely tied to the values of the monument. Like the protections afforded by prior proclamations, protection of Trinidad Head, Waluplh-Lighthouse Ranch, Lost Coast Headlands, Cotoni-Coast Dairies, Piedras Blancas, and Orange County Rocks and Islands would protect and preserve objects of historic or scientific interest on the California Coast.

Trinidad Head

About 30 miles north of Eureka lies the majestic and culturally important promontory known as Trinidad Head. The tip of Trinidad Head encompasses several prominent historic sites along with the rocky ledges that provide their setting, such as the Trinidad Head Light Station, which first operated in 1871 and is still active today. Accompanied by a small wooden bell house, it sits atop sheer cliffs overlooking crashing waves and rugged sea stacks. The importance of this location predated its first use as a lighthouse. Nearly 100 years earlier, on June 9, 1775, representatives of the local Yurok community first made contact with two Spanish ships there. A granite cross installed in 1913 sits in a clearing above the lighthouse, commemorating the spot where the Spanish erected a wooden cross two days later to claim the area for King Charles III. Today, the area is culturally and spiritually significant to the Cher-Ae Heights Indian Community of the Trinidad Rancheria, the Yurok Tribe, and the Tsurai Ancestral Society.

Coastal bluff scrub vegetation, including coyote brush, California wax myrtle, salal, blue blossom, ocean spray, and evergreen huckleberry, surrounds these historic features. Scattered stands of Sitka spruce, Douglas fir, and red alder stand out among these native shrubs and herbs. Coast Indian paintbrush grows in rocky outcroppings near the bell house, adding splashes of crimson to the landscape. Visitors to Trinidad Head enjoy observing the Trinidad seabird colony, which makes its home on the rocks and islands off the coast of Trinidad Head and contains over 75,000 birds, including several species of cormorant, the common murre, and occasionally tufted puffins.

Waluplh-Lighthouse Ranch

Perched on the edge of Table Bluff, 12 miles south of Eureka, Waluplh-Lighthouse Ranch has spectacular panoramic views of the Pacific Ocean, Eel River Delta, and the south spit of Humboldt Bay. In addition to outstanding scenery, visitors to Waluplh-Lighthouse Ranch can view migratory raptors, songbirds, and the endangered marbled murrelet.

Waluplh-Lighthouse Ranch is part of the ancestral home and current cultural traditions of the Wiyot Tribe, who gave it the name Waluplh. With its expansive views, the area served as a lookout point for the Tribe, as well as a crossroads for trails connecting inland areas with Humboldt Bay to the north and the bottomlands surrounding the mouth of the Eel River to the south. Beginning in the late 1800s, Waluplh-Lighthouse Ranch was developed as a Coast Guard facility, and during World War II, it served as a coastal lookout post and the base for a mounted beach patrol. There are no longer any buildings on the property, so visitors now enjoy its panoramic views surrounded by open space.

Lost Coast Headlands

Thirteen miles south of Waluplh-Lighthouse Ranch, the Lost Coast Headlands present a majestic coastline, encompassing rolling hills and dramatically eroding bluffs, punctuated by freshwater creeks, ponds, and pockets of forests. Underlying the Lost Coast Headlands are layers of highly erodible sedimentary rock known as the Wildcat Group. This geology has weathered over the years, leading to deeply carved and incised bluffs along the beach made up of multi-hued layers of gray clay, golden sandstone, and brown siltstone. The eroding of the bluffs over time exposes fossils of scallops, clams, and snails, providing a glimpse of the marine fauna that lived in the area during the Pleistocene Epoch 2.6 million to 11,700 years ago.

Coastal scrub vegetation and open grasslands blanket the area's rolling hills. Coyote brush and California blackberry dominate, and in the grasslands, small patches of native Pacific reed grass meadow remain. Pockets of Douglas fir, Sitka spruce, and grand fir shadow the eroded draws. These diverse habitats support an array of wildlife species, including black‐tailed deer, bobcat, brush rabbit, and Douglas squirrel. While more elusive, gray fox, coyote, and mountain lion also pass through the area, and a careful observer may notice signs of their presence. A variety of small birds dart about its grasslands and scrub, while raptors such as American kestrels, northern harriers, peregrine falcons, and Cooper's hawks scan for prey overhead. Quiet visitors may hear hairy woodpeckers in the forested draws. Foraging shorebirds and gulls, along with the occasional harbor seal, can be observed on the narrow beaches.

Buffered by red alder and willow, Guthrie and Fleener creeks wind their way through the Lost Coast Headlands on their way to the sea. Both perennial streams provide habitat for three-spined stickleback, a small native fish. Sculpin, Pacific lamprey, and the threatened Northern California steelhead have also been observed in Guthrie Creek, and both creeks are potential habitat for the threatened coho salmon. During the summer, the mouth of Guthrie Creek widens into a lagoon that can provide shelter for estuary-dependent fish and invertebrates. The area also features three small, freshwater ponds that provide habitat for the threatened California red-legged frog and a variety of waterfowl, including green-winged teals.

While few signs of it remain, the northernmost point of the Lost Coast Headlands was once the site of the Centerville Beach Naval Facility, established in 1958 to monitor Soviet submarines during the Cold War. For more than 100 years, several families who settled nearby grazed livestock in the area.

Cotoni-Coast Dairies

Near Davenport in Santa Cruz County, Cotoni-Coast Dairies extends from the steep slopes of the Santa Cruz Mountains to the marine coastal terraces overlooking the Pacific Ocean. Sitting atop the soft Santa Cruz Mudstone Formation and the hard, silica-rich Monterey Formation, the area's bedrock supports a diversity of soils and vegetation that have sustained wildlife and people alike for millennia.

Dating back at least 10,000 years, an ancestral group known to archaeologists as the Costanoan or Coastal People (also called the Ohlone) lived in this region, and the Cotoni, a tribelet of this group, lived in the Cotoni-Coast Dairies area. Lithic scatter sites and shell middens demonstrate that inhabitants moved between the coastal ecological zones and upland environments, making use of the landscape's diverse resources. Europeans first made contact with the Cotoni in the 1600s and 1700s. Most of the Costanoan people were converted to Christianity, many forcibly, during California's Mission period in the late 1700s and 1800s, and by the early 1900s, much of the ancient cultural heritage of the Coastal People was left only to memory.

Six perennial streams form the heart of Cotoni-Coast Dairies' ecosystem, flowing from the coastal mountains down to the Pacific Ocean. Molino Creek, Ferrari Creek, San Vicente Creek, Liddell Creek, Yellow Bank Creek, and Laguna Creek have each carved steep canyons on their path to the sea. Vibrant riparian areas follow along the six stream corridors, with red alder and arroyo willow forests dominating the vegetative community. A seventh stream, Scott Creek, flows along a small portion of the area's northern boundary. Most of the area's wetlands can be found within these riparian corridors, though others exist in meadows and floodplains.

Beyond supporting riparian and wetland communities, Cotoni-Coast Dairies' waterways provide important habitat for anadromous and freshwater fish. All of the streams are thought to have historically supported salmon populations. Today, the threatened steelhead and coho salmon can be found on spawning runs in San Vicente Creek, while steelhead are also found in Liddell Creek and Laguna Creek. The endangered tidewater goby may also be found in the tidally influenced portion of Laguna Creek. The threatened California red-legged frog uses many of the waterways and water sources here, along with a wide range of other amphibians and reptiles.

Grasslands, scrublands, woodlands, and forests surround the riparian corridors in Cotoni-Coast Dairies. Purple needlegrass and other native species, such as California oatgrass and blue wildrye, characterize the coastal prairie grassland community. The intermixed wildflowers in the community provide visitors a colorful display in the spring and early summer. Occasional freshwater seeps amid the grasslands support sedges, California buttercup, brown-headed rush, and other species.

California sagebrush and coyote brush scrub communities blanket the area's bluffs and hillside slopes. Native trees, including Douglas fir and coast live oak, dominate forests, which also include stands of coastal trees such as madrone, California bay, Monterey pine, and knobcone pine. Visitors are drawn to stands of coast redwood, which thrive on the north-facing slopes in some watersheds, accompanied by redwood sorrel, elk clover, and other understory species.

The diversity of the uplands vegetation in Cotoni-Coast Dairies supports a rich wildlife community including a vast and varied mammalian population. Among the many species inhabiting Cotoni-Coast Dairies are California voles, dusky-footed woodrats, black-tailed jackrabbits, mule deer, and gray fox. Evidence also suggests that both bobcats and mountain lions hunt here.

Visitors to Cotoni-Coast Dairies may be able to catch a glimpse of a variety of avian species, including black swifts, orange crowned warblers, American kestrels, Cooper's hawks, white-tailed kites, and peregrine falcons. In the riparian areas, one may encounter Wilson's warblers, downy woodpeckers, and tree swallows, among others. Various bat species, including the Townsend's big-eared bat, can be seen darting overhead at dusk.

Piedras Blancas

Only 40 miles north of San Luis Obispo, the large white coastal rocks for which Piedras Blancas was named have served as a landmark for centuries to explorers and traders along the central coast of California. Sitting at a cultural interface between Northern Chumash and Playanos Salinan peoples, Piedras Blancas was and still remains important to Native Americans. The human history of the area stretches back at least 3,000 years, and archaeologists have found stone tools, debris from tool knapping, discrete quarrying locations, and shell midden deposits that help tell that history. Native peoples largely used the area as a source of raw stone and for the manufacture of stone tools.

In 1542, the Spanish explorer Juan Rodriquez Cabrillo noted the value of this area as a maritime guidepost, and the land he sighted from his ship was later claimed by the Spanish, followed by the Governor of Mexico, and subsequently became part of the United States. A lighthouse built in the 1870s still stands today, albeit without the three upper levels that were removed after being damaged by an earthquake in 1948. The lighthouse, with its ornate brick and cast-iron structure, is listed in the National Register of Historic Places along with its surrounding buildings, such as the 1906 fog-signal and oil house. Visitors to Piedras Blancas today are treated to unmatched scenic vistas of the rugged mountain peaks of the Santa Lucia Range and the deep blue waters of the Pacific Ocean. Dramatic geologic features, such as the namesake white rocks, along with the area's characteristic fog, contribute to a dynamic visual landscape.

The bedrock in the area consists of both sedimentary and volcanic rocks of the Franciscan Formation. This Formation represents Jurassic age material from the Pacific Plate that scraped off and attached to the continental margin of North America. Atop the bedrock lie Monterey Formation rocks, topped with marine terrace deposits. Rain percolates through the rock surface and sub-surface and emerges dramatically as ephemeral springs from cliff faces.

California sea lions, harbor seals, and northern elephant seals all spend time on the shores and within the waters of this area. Visitors may observe colonies of massive elephant seals loafing in the sun at Piedras Blancas, where females can be seen nursing their pups, and males occasionally battle for dominance. For decades, scientists have used this land to conduct annual censuses of the threatened southern sea otter and other marine mammals. From the mainland of Piedras Blancas, visitors can also be treated to regular visits by migrating gray and humpback whales, and occasionally blue, minke, and killer whales as well, in addition to bottlenose dolphins.

Marine birds perched on or soaring over the Piedras Blancas rocks include Brandt's cormorants, black oystercatchers, peregrine falcons, and brown pelicans. In a remarkable spring display, Pacific loons can be seen migrating offshore of Piedras Blancas by the tens of thousands. In the rocky intertidal zone found along these shores, scientists have documented mussels, ochre starfish, barnacles, sea anemones, and black and red abalones.

The lighthouse's windswept onshore point is also a sanctuary for plants and wildlife. Over 70 types of native plants, including members from the agave, cashew, sunflower, carnation, morning glory, gourd, iris, and poppy families, establish a foothold in the fine sand and fine sandy loam soils. Together this diversity of vegetation can be characterized as northern coastal bluff scrub. If visitors time their visit, they will be treated to a dazzling array of blooms from species such as seaside poppy, seaside daisy, coastal bush lupine, hedge nettle, dune buckwheat, and compact cobwebby thistle. This native vegetation supports many wildlife species, including brush rabbits, California voles, dusky-footed woodrats, and bobcats. Black-bellied slender salamanders, threatened red-legged frogs, western terrestrial garter snakes, and other reptiles and amphibians thrive in the Piedras Blancas area.

Orange County Rocks and Islands

This area consists of a series of offshore rocks, pinnacles, exposed reefs, and small islands off the Orange County coastline, where visitors onshore are treated to dramatic crashing waves, unique geology, and an abundance of marine-dependent wildlife. These rocks and islands lie within the current monument boundary but were not previously reserved as part of the monument. These offshore rocks, many in pocket coves, contribute to the rugged beauty of the Orange County coastline and themselves include objects of scientific and historic interest. The features also provide important connectivity from south to north for shore birds and sea birds, as well as for California sea lions and harbor seals.

Cormorants, brown pelicans, gulls, and a variety of other shore birds and sea birds can be seen roosting, resting, and feeding on the jagged rocks and small islands. These rocks and islands are also haul-out areas for marine mammals, including California sea lions, harbor seals, and the occasional northern elephant seal.

Rich in vital nutrients, this offshore zone of swirling currents supports a variety of habitats and organisms. The tide pools around these rocks and islands are home to a diversity of hardy intertidal seaweeds and animal species uniquely adapted for survival within the alternating and equally harsh environs of pounding surf and baking sun.

The protection of Trinidad Head, Waluplh-Lighthouse Ranch, Lost Coast Headlands, Cotoni-Coast Dairies, Piedras Blancas, and Orange County Rocks and Islands as part of the California Coastal National Monument will preserve their cultural, prehistoric, and historic legacy and maintain their diverse array of natural and scientific resources, ensuring that the historic and scientific value of these areas, and their numerous objects of historic or scientific interest, remain for the benefit of all Americans.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which in all cases shall be confined to the smallest area compatible with the proper care and management of the objects to be protected;

WHEREAS, it is in the public interest to preserve the objects of scientific and historic interest on the public lands of Trinidad Head, Waluplh-Lighthouse Ranch, Lost Coast Headlands, Cotoni-Coast Dairies, Piedras Blancas, and Orange County Rocks and Islands;

NOW, THEREFORE, I, BARACK OBAMA, President of the United States of America, by the authority vested in me by section 320301 of title 54, United States Code, hereby proclaim the objects identified above that are situated upon lands and interests in lands owned or controlled by the Federal Government to be part of the California Coastal National Monument and, for the purpose of protecting those objects, reserve as part thereof all lands and interests in lands owned or controlled by the Federal Government within the boundaries described on the accompanying maps, which are attached hereto and form a part of this proclamation. The Orange County Rocks and Islands shall be managed as part of the original offshore area of the monument, and the remainder of the lands shall be known as the Trinidad Head, Waluplh-Lighthouse Ranch, Lost Coast Headlands, Cotoni-Coast Dairies, and Piedras Blancas units of the monument, respectively. These reserved Federal lands and interests in lands encompass approximately 6,230 acres. The boundaries described on the accompanying maps are confined to the smallest area compatible with the proper care and management of the objects to be protected.

All Federal lands and interests in lands within the boundaries described on the accompanying maps are hereby appropriated and withdrawn from all forms of entry, location, selection, sale, or other disposition under the public land laws, from location, entry, and patent under the mining laws, and from disposition under all laws relating to mineral and geothermal leasing, other than by exchange that furthers the protective purposes of the monument.

The enlargement of the boundary is subject to valid existing rights. If the Federal Government subsequently acquires any lands or interests in lands not owned or controlled by the Federal Government within the boundaries described on the accompanying maps, such lands and interests in lands shall be reserved as a part of the monument, and objects identified above that are situated upon those lands and interests in lands shall be part of the monument, upon acquisition of ownership or control by the Federal Government.

The Secretary of the Interior (Secretary) shall manage the area being added to the monument through the Bureau of Land Management (BLM) as a unit of the National Landscape Conservation System, pursuant to applicable legal authorities, to protect the objects identified above.

The Cotoni-Coast Dairies unit of the monument shall become available for public access upon completion of a management plan by the BLM, consistent with the care and management of the objects identified above.

Consistent with the care and management of the objects identified above, and except for emergency or authorized administrative purposes, motorized vehicle use in areas being added to the monument shall be permitted only on designated roads, and non-motorized mechanized vehicle use shall be permitted only on designated roads and trails.

Nothing in this proclamation shall be construed to interfere with the operation or maintenance, or the replacement or modification within the existing authorization boundary, of existing weather station, navigation, transportation, utility, pipeline, or telecommunications facilities located on the lands added to the monument in a manner consistent with the care and management of the objects to be protected. Other rights-of-way shall be authorized only if they are necessary for the care and management of the objects to be protected.

Nothing in this proclamation shall be deemed to enlarge or diminish the rights or jurisdiction of any Indian tribe. The Secretary shall, to the maximum extent permitted by law and in consultation with Indian tribes, ensure the protection of Indian sacred sites and traditional cultural properties in the monument and provide access by members of Indian tribes for traditional cultural and customary uses, consistent with the American Indian Religious Freedom Act (42 U.S.C. 1996) and Executive Order 13007 of May 24, 1996 (Indian Sacred Sites).

Laws, regulations, and policies followed by the BLM in issuing and administering grazing permits or leases on lands under its jurisdiction shall continue to apply with regard to the lands added to the monument, consistent with the care and management of the objects identified above.

Nothing in this proclamation shall be deemed to enlarge or diminish the jurisdiction of the State of California or the United States over submerged or other lands within the territorial waters off the coast of California, nor shall it otherwise enlarge or diminish the jurisdiction or authority of the State of California, including its jurisdiction and authority with respect to fish and wildlife management.

Nothing in this proclamation shall affect the rights or obligations of any State or Federal oil or gas lessee within the territorial waters off the California Coast.

Nothing in this proclamation shall be construed to alter the authority or responsibility of any party with respect to emergency response activities within the monument, including wildland fire response.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this twelfth day of January, in the year of our Lord two thousand seventeen, and of the Independence of the United States of America the two hundred and forty-first.

Billing code 3295-F7-P

[FR Doc. 2017-01327

Filed 1-17-17; 11:15 a.m.]

Billing code 4310-10-C